DEPARTMENT OF TRANSPORTATION

Federal Transit Administration

Innovative Transit Workforce Development Program

AGENCY: Federal Transit Administration (FTA), DOT.

ACTION: Notice of funding availability (NOFA) for innovative workforce development program.

SUMMARY: The Federal Transit Administration (FTA) is publishing a Notice of Funding Availability (NOFA) for the Innovative Workforce Development Program. This NOFA seeks proposals that promote diverse and innovative successful workforce development models and programs. FTA has budgeted approximately $5,000,000 for providing support of these efforts.

DATES: Complete proposals must be submitted to http://www.grants.gov no later than 11:59 p.m. EDT, July 6, 2012.

ADDRESSES: All proposals must be submitted electronically via http://www.grants.gov. Prospective applicants are advised to initiate the process by registering on this site immediately to ensure the completion of the application process prior to the submission deadline.

FOR FURTHER INFORMATION CONTACT: Betty Jackson, FTA Office of Research and Innovation, 1200 New Jersey Avenue SE., Washington, DC 20590. Phone: (202) 366-1730. Email: Betty.Jackson@dot.gov. TDD service is available via 1-800-877-8339 (TDD/FIRS).

SUPPLEMENTARY INFORMATION:

Table of Contents

I. Background and Objectives

II. Award Information

a. Award Amount

b. Period of Performance

III. Eligibility Information

a. Eligible Applicants Defined

b. Strategic Partnerships

c. Cost Sharing

d. Other Eligibility Requirements

IV. Proposal Preparation and Submission Instructions

V. Project Selection Criteria

VI. Award Administration Information

VII. Additional Information

I. Background and Objectives

FTA's workforce development activities are authorized by 49 U.S.C. 5322, Human Resource Programs. The Innovative Transit Workforce Development Program is intended to exercise this authority by providing funding to transit agencies and other entities with innovative solutions to pressing workforce development issues.

Supporting a highly-skilled transit workforce is critical to maintaining a competitive and efficient public transportation system. As public transportation enjoys a resurgence in the United States and investments continue in the physical capital of the nation's transit systems, it is essential to build and maintain human capital as well.

Type of Workforce Development Activity

FTA will accept applications that target one or more the following areas in the lifecycle of the transit workforce:

(1) Pre-employment training/preparation

(2) Recruitment and hiring

(3) Incumbent worker training and retention

(4) Succession planning/phased retirement

Project Focus

All workforce development activities that focus on these activity areas in the lifecycle of the transit workforce are eligible.

FTA is soliciting applications which cover a wide range of workforce activities—however, the following areas are of particular interest and focus:

(a) Projects or programs that demonstrate innovative methods of leveraging investments in public transportation infrastructure to generate positive impacts in local employment, particularly in underserved communities.

(b) Innovative projects or programs that support the training/professional development needs of blue-collar operations and maintenance workers, particularly in the area of new and emerging technologies.

(c) Projects that support or showcase innovative methods of encouraging youth to pursue careers in public transportation.

Competitive proposals will support products and approaches that improve the state of the practice in workforce development.

Funding can be used for new workforce ideas and programs or to augment an existing workforce effort. While either type of effort will be considered, programs or approaches with an existing track record of success are likely to receive significant consideration.

Proposals must describe the final project deliverable(s) and how they will improve the state of the practice. Final products and project deliverables will be made available at no cost to FTA and other parties at the project's close.

II. Award Information

A. Award Amount

FTA has budgeted approximately $5,000,000 for the program in its second iteration of the program. Future funding will depend on Congressional appropriation. Proposals must have a minimum threshold of $100,000 and a maximum of $1,000,000. FTA reserves the right to change this amount based on the quantity and quality of applications submitted under this Request for applications (RFA). FTA may choose to fund programs for less than the proposed amount. Applicants are encouraged to submit proposals for projects at the appropriate funding level for the project, recognizing that FTA's contributions will be limited according to the funding range specified above.

B. Period of Performance

The period of performance will be up to 18 months from the date of execution of the grant documents. This performance period includes all necessary implementation and start-up activities, execution of the program, and completion of final deliverables as specified in the applicant's Scope of Work.

The Department intends that all recipients implement the programs awarded as soon as possible. Applicants should plan to fully expend grant funds during the period of performance, recognizing that full transparency and accountability are required for all expenditures.

• FTA anticipates awarding proposals for projects that will be completed within 12 to 18 months of receipt of the funding award.

• Applicants may choose to submit more than one proposal. However, each proposal must support a new idea or program and not be duplicative. A volume of proposals from a single entity or a consortium will not increase that entity's chances of being awarded a grant.

• FTA may choose to fund only a part of a proposed project or none at all.

• FTA will also consider projects of longer duration, provided that the work activities and product delivery is phased in such a way as to produce a viable product during the period of performance specified in this RFA.

• Upon award, FTA may withdraw its obligation to provide Federal assistance if the recipient does not submit the formal application (to be completed after selection) within 90 days following the date of the offer.

Deadlines: Applications must be submitted through GRANTS.GOV (http://www.grants.gov/) by July 6, 2012. FTA suggests that applicants commence the application process well ahead of the application deadline in case of technical difficulty or other extenuating circumstances. Late applications will not be accepted.

III. Eligibility Information

A. Eligible Applicants Defined

Eligible applicants are public transit agencies; state departments of transportation (DOTs) providing public transportation services; and Indian tribes, non-profit institutions and institutions of higher education. Only these types of organizations are eligible to apply to this program.

The cooperative agreement will be between FTA and the selected organization, which must have a substantial involvement in the project and must not simply act as a pass-through for funds.

Applicants may apply individually or in a consortium of eligible applicants. The consortium of eligible applicants must designate a lead applicant as the primary recipient of federal funds.

Individuals, private for-profit entities, and Federal agencies are not eligible to apply to this program. However, personnel in private for-profit entities may participate as a non-compensated partner or through sub-contracts with the awardees.

B. Strategic Partnerships

To be eligible for funding under this NOFA, applicants must demonstrate that the proposed project is supported by both the primary applicant and at least one or more external partner(s). The permitted external partners may differ based on the type of lead applicant, as noted below.

a. Lead Applicant Is: Nonprofit or Institution of Higher Education

If a non-profit organization or an institution of higher education is the lead applicant, then it must partner with a transit agency or consortium of transit agencies, a state department of transportation (State DOT) providing public transportation services, or an Indian tribe providing transportation services. A particular transit agency or other entity providing public transportation services may be a strategic partner for more than one applicant. However, any participation as a strategic partner must be substantial and include significant project involvement.

Applicants should include a letter of confirmed support from each potential partner as part of their application.

b. Lead Applicant Is: Public Transit Agency; State Departments of Transportation (State DOT)s Providing Public Transportation Services; or Indian Tribe

If a transit agency or other entity providing public transportation services is the lead applicant, then they must partner with an external strategic partner. Strategic partnerships should be clearly defined and limited to partner entities with a substantial interest and involvement in the project.

An external partner entity may be defined as, but not limited to:

1. Educational institutions, which includes entities providing professional accreditation, degree, and/or certification programs, such as universities, community colleges, or trade schools, either non-profit or for-profit.

2. Public workforce investment systems, such as local Workforce Investment Boards and their one-stop systems.

3. Labor organizations, such as labor unions and labor management organizations.

4. Non-profit organizations that support the mission of transit and transportation workforce development.

C. Cost Sharing

Cost sharing or local matching funds are not required as a condition for application, but leveraged resources are strongly encouraged and may affect an applicant's final score.

D. Other Eligibility Requirements

i. Allowable Activities

Projects must provide direct support to workforce development projects. Capital expenses such as equipment purchases are not considered to be eligible costs unless they directly relate to the workforce development program being supported by FTA funds. Acceptable costs can include, but are not limited to: Faculty/instructors, including salaries and fringe benefits, support staff, classroom space, books, materials and supplies, transportation stipends for students.

ii. Unallowable Costs

FTA funds under this program are not intended as an offset to regular transit agency employee salaries and may not be used to cover the regular or overtime salaries of employees at transit agencies offering training. Funds may be used to cover the costs of staff directly engaged in a program management or training role at an agency.

IV. Proposal Preparation and Submission Instructions

Potential applicants are advised to familiarize themselves with the application process on http://www.grants.gov well before the submission deadline. Eligible entities must have or must secure a DUNS number for the purposes of formal application and potential entry into a cooperative agreement with FTA. The DUNS number is a unique nine-character number that identifies your organization. It is a tool of the federal government to track how federal money is distributed. Each FTA applicant's DUNS number will be maintained as part of the applicant's profile. This number can be obtained free through the D&B Web site (http://www.dnb.com/US/duns_update/).

In addition, each entity that applies and does not have an exemption under 2 CFR 25.110 should:

(1) Be registered in the Central Contractor Registration (CCR) prior to submitting an application or plan (http://www.ccr.gov), and

(2) Maintain an active CCR registration with current information at all times during which it has an active Federal award or an application or plan under consideration by an agency;

The applicant should submit a project narrative statement describing the project objectives, proposed work tasks, outputs, and benefits of the proposed project for which Federal assistance is being requested.

If the project is a proposal seeking support for an existing program, it should describe the proposed FTA-supported project within the context of the larger effort.

The narrative should also indicate whether matching funds would be provided, the expected duration of the project, and other information that would assist FTA to understand and evaluate the project. Each submission for a project narrative statement should not exceed 12 pages (single-spaced, single-sided, 12 point font on 8.5 x 11 inch paper) and must include the information listed below:

a. Project Title, Objective(s), and Contact Person. At the top of the document, state the title of the project and provide 2-3 sentences describing the intended project goals and outcomes. List the contact person for this application along with his or her address, title, phone number, fax number, and email address.

b. Statement of the Problem(s). Provide a description of the new or existing program to be supported by the proposed project. Characterize the workforce issue or problem present in the public transportation industry that the project directly addresses. Describe how the project will specifically address the issue for the applying organization. Explain why the specified approach is being taken as opposed to others, and how its innovative aspects have potential for nationwide application. In addition to innovative workforce practices, cite the unique features of the project, such as design or technological innovations, reductions in cost or time, environmental benefits, benefits to riders, or social and community involvement. Finally, identify uncertainties and external factors that could affect the schedule, cost, or success of the program. Supporting documentation may be provided as an attachment that will not count toward the total page limit. Such information will be considered supplementary and will not necessarily be considered by FTA in the project selection process.

c. Geographic Location, Target Groups, and Emphasis Areas. Give a precise location of the project and identify the area(s), and target group(s) to be directly served by the proposed effort. Maps or other graphic aids may be attached as needed.

d. Strategic Partners. Provide a list of the strategic partner(s) that will be participating in the project, as well as a description of each organization, the unique skill sets and capacity they will bring to the project, as well as the activities they will carry out.

e. Scope. Outline a plan of action, organized by work task, pertaining to the scope and detail of how the proposed work will be accomplished. List estimated milestone dates for major activities and products.

Activities should be justified in terms of eligible program activities and proposals should clearly demonstrate the connection between the planned work and at least one of the specific program activities cited.

The scope should also address supporting activities, such as marketing plans for engaging participants and/or dissemination strategies for sharing the results, if such are critical to the success of the supported program.

The applicant must plan to produce at least one final deliverable that will become available to FTA at the end of the project for dissemination and sharing throughout the industry at no cost. Acceptable final products include, but are not limited to, class materials, Web sites or software, recruitment materials, flyers, brochures and reports. This product is in addition to the performance measurement reporting requirements described below in paragraph g.

If a phased plan is being proposed, describe the context and additional phases on a separate page or separate pages.

e. Period of Performance. Provide a schedule for completion of tasks assuming a total period of performance of 12-18 months. If a proposal specifies work that will exceed 18 months from award to delivery of outputs, the proposal must segment the work into phases and identify discrete deliverables that will be completed during the period of performance of this program. If a phased plan is being proposed, describe schedule for additional phases on a separate page or separate pages (not counted toward the page maximum).

f. Cost/Budget Proposal. Provide a cost proposal indicating staffing levels, hours, and direct costs for the total project and amount of funding requested from FTA. As appropriate, the cost proposal should also show the nature and value of in-kind resources that team members will contribute. The proposal should also describe the source, purpose and amount of matching funds that will be used to make up any monetary difference between FTA's contribution and the total project cost.

If a project or program is scalable or can be phased, that should be indicated within the budget. As funding for the Innovative Workforce Development Program is limited, an application that can be scaled may receive additional consideration for funding.

g. Performance Measurement. Provide an approach for demonstrating the local and/or nationwide impact of the pilot project on the transit industry. The proposal should include a description of the applicant's plan for recording the outcomes and reporting at the minimum the following to FTA at the end of the project:

• The number of individuals affected by the project. Applicants should define “affected individuals” in terms that make sense for the proposed project.

○ For example, other common reported outcomes include:

Number of eligible individuals entered into program

Number of successful completers (completed training program, achieved applicable credential, etc.)

Number of placed new workers and/or advanced incumbent workers

Number of retained workers after 90 days

• The costs of the project and the share of federal investment;

• At least one measure of quality; Quantitative metrics are preferred, but qualitative metrics will be considered provided they are based on the experiences of those affected by the program (as opposed to the self-assessment of the applicant or partner agencies). Metrics could include, but are not limited to, survey results; exit interviews; longitudinal tracking of staff (during the period of performance only);

• A 1-2 page project description that will state the pilot project's initial goals and achievements against those goals. This statement can also include “lessons learned.”

• A 1-2 page statement of applicability to other entities. Once the program is complete, the applicant will be asked to describe how the pilot project could be scaled and/or altered for application elsewhere, and what types of benefits could be realized by doing so.

• Any other performance measure that the applicant thinks would describe the strengths and weaknesses of the project.

As part of the proposal, provide projections (for quantitative measures) or short hypotheses (for qualitative measures) of what type of impact/performance FTA could expect from the project.

h. Project Management. Describe the applicant's approach for managing and staffing the project, including the distribution of responsibilities among partner entities and an organizational chart, if applicable. Include responsibilities such as regular reporting, performance measurement, and technical/management interactions with FTA. Quarterly cost and activity progress reporting will be required using a template provided by FTA.

i. Project Staff. List each organization, operator, consultant, or other key individuals who will work on the project, along with short descriptions of their appropriate technical expertise and experience (such as past, relevant research). Attach resumes or curriculum vitae if available. Project staff resumes or curriculum vitae will not count towards the total page count for proposal submissions.

V. Project Selection Criteria

In addition to other FTA staff that may review the proposals, a technical evaluation committee will review proposals under the project selection criteria. Members of the technical evaluation committee and other involved FTA staff reserve the right to screen and rate the applications it receives and to seek clarification from any applicant about any statement in its application that FTA finds ambiguous and/or to request additional documentation to be considered during the evaluation process to clarify information contained within the proposal.

After consideration of the finds of the technical evaluation committee, the FTA Administrator will determine the final selection and amount of funding for each project. FTA may consider geographic diversity and the applicant's receipt of other discretionary awards in its award decisions.

In addition to the general considerations mentioned above, projects will be selected based on the following criteria:

• National Applicability

• Statement of Need

• Innovation

• Project Management and Organizational Capacity

• Strategy and Project Work Plan

• Outcomes and Deliverables

• Support for needs of blue collar operations and maintenance workers

National Applicability

The project should have national or regional applicability and provide a replicable model of workforce development practices.

Statement of Need

An applicant must fully demonstrate a clear and specific industry need for the Federal investment in the proposed transit workforce development activities. An applicant must submit data and provide evidence of the industry need and value for proposed program.

Innovation

A project should identify a unique, significant, or innovative approach to address workforce development issues in a transit agency or state DOT.

Project Management and Organizational Capacity

An applicant must fully describe the capacity of the applicant and its required partners to effectively staff the proposed initiative and deliver the proposed outcomes. The application must also fully describe the applicant's fiscal, administrative, and performance management capacity to implement the key components of this project, and the track record of the applicant and its required partners in implementing projects of similar focus, size, and scope.

Strategy and Project Work Plan

An applicant must provide a comprehensive project work plan. Factors considered in evaluating the project work plan will include: (1) The presentation of a coherent plan that demonstrates the applicant's complete understanding of all the activities, responsibilities, and costs required to implement each phase of the project and achieve projected outcomes; (2) the demonstrated feasibility and reasonableness of the timeline for accomplishing all necessary implementation activities, including the ability to expeditiously begin training; and (3) the extent to which the budget aligns with the proposed work plan and is justified with respect to the adequacy and reasonableness of resources requested.

Deliverables

An applicant must demonstrate a results-oriented approach to managing and operating its project by providing projections for all applicable outcome categories relevant to measuring the success or impact of the project, describing the products and deliverables that will be produced as a result of the grant activities, and fully demonstrating the appropriateness and feasibility of achieving these results. The applicant must include projected outcomes, which will be used as goals for the grant.

Support for the Needs of Blue Collar Operations and Maintenance Workers

Special consideration will be given to innovative projects or programs that support the training/professional development needs of blue-collar operations and maintenance workers, particularly in the area of new and emerging technologies.

VI. Award Administration Information

a. Notification. After FTA has selected the proposals to be funded, successful applicants may be notified informally by email or telephone of their status.

A package containing a formal award letter, instructions for entering into a cooperative agreement with FTA, copies of agreements for execution, and an approved budget will be sent to organizations (listed point of contact) whose submitted proposals have been selected for funding under the program. The “award letter” will indicate the date of the award and set forth any special conditions under which the project is approved. The date of award is the date that authorizes the recipient to incur project costs. Any activities that occur before this award are not eligible for reimbursement.

b. Execution of the FTA Agreement. The recipient should execute and date the copies in accordance with the instructions provided in the award package, and return two signed copies of the FTA agreement to the FTA Office of Chief Counsel per the instructions. FTA should be advised promptly if the recipient is unable to execute the FTA agreement within 90 days after the obligation date, (i.e., the date on which FTA officially approved a project).

c. Start Date and Incurred Costs. Absent special circumstances, costs incurred prior to FTA award are not eligible as project expenses. Absent highly unusual circumstances, FTA cannot retroactively approve a project. The recipient may begin to incur project costs as of the date the award letter is signed by FTA and submitted to the awardee for signature.

VII. Additional Information

Prospective applicants may also wish to visit the following Web sites for more information:

• http://www.fta.dot.gov.

• For more on managing projects in accordance with FTA Circular 6100.1D: Transit Research and Technology Programs: Application Instructions and Program Management Guidelines: http://fta.dot.gov/legislation_law/12349_12669.html. This includes requirements on project management and administration including quarterly reporting, financial management, and payment.

Issued on: May 25, 2012.
Peter Rogoff,
Administrator.

[FR Doc. 2012-13220 Filed 5-30-12; 8:45 am]

BILLING CODE 4910-57-P